NUCLEAR REGULATORY COMMISSION

[NRC-2012-0152]

Design, Inspection, and Testing Criteria for Air Filtration and Adsorption Units of Normal Atmosphere Cleanup Systems in Light Water Cooled Nuclear Power Plants

AGENCY: Nuclear Regulatory Commission.

ACTION: Regulatory Guide; Issuance.

SUMMARY: The U.S. Nuclear Regulatory Commission (NRC) is issuing Revision 3 to Regulatory Guide (RG) 1.140, “Design, Inspection, and Testing Criteria for Air Filtration and Adsorption Units of Normal Atmosphere Cleanup Systems in Light Water Cooled Nuclear Power Plants.” This RG describes a method that the NRC staff considers acceptable to implement regulatory requirements with regard to the design, inspection, and testing of normal atmosphere cleanup systems for controlling releases of airborne radioactive materials to the environment during normal operations, including anticipated operational occurrences. This guide applies to all types of nuclear power plants that use water as the primary means of cooling.

DATES: Revision 3 to RG 1.140 is available on August 17, 2016.

ADDRESSES: Please refer to Docket ID NRC-2012-0152 when contacting the NRC about the availability of information regarding this document. You may obtain publicly available information related to this document, using the following methods:

• Federal Rulemaking Web site: Go to http://www.regulations.gov and search for Docket ID NRC-2012-0152. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly available documents online in the ADAMS Public Document collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced. Revision 3 to RG 1.140, and the regulatory analysis are available in ADAMS under Accession No. ML16070A277 and ML16082A538, respectively.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Jerome Bettle, Office of Nuclear Reactor Regulation, telephone: 301-415-1314, email: Jerome.Bettle@nrc.gov; and Stephen Burton, Office of Nuclear Regulatory Research, telephone: 301-415-7000, email: Stephen.Burton@nrc.gov: Both are staff of the U.S. Nuclear Regulatory Commission, Washington, DC 20555-0001.

SUPPLEMENTARY INFORMATION:

I. Introduction

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 3 of RG 1.140 was issued with a temporary identification of Draft Regulatory Guide, DG-1280. Since the NRC issued Revision 2 of RG 1.140, in June 2001, the American Society of Mechanical Engineers (ASME) Committee on Nuclear Air and Gas Treatment (CONAGT) has revised and expanded the scope of equipment covered by ASME-AG-1, “Code on Nuclear Air and Gas Treatment,” which the staff previously endorsed in RG 1.140. The revision to ASME-AG-1b consolidated some requirements from ASME-N509, “Nuclear Power Plant Air Cleaning Units and Components”; ASME-N510, “Testing of Nuclear Air-Treatment Systems”; and other documents previously endorsed by the staff in RG 1.140. In addition, CONAGT has developed and published a new standard, ASME N511-2007, “Inservice Testing of Nuclear Air Treatment, Heating Ventilation and Air Conditioning Systems.” This new standard provides comprehensive test and inspection requirements and is written to complement the expanded ASME-AG-1b. Therefore, this guide was revised to address these changes to the referenced industry standards.

II. Additional Information

The DG-1280, was published in the Federal Register on June 29, 2012 (77 FR 38857), for a 60-day public comment period. The public comment period closed on August 27, 2012. Public comments on DG-1280 and the NRC staff responses to the public comments are available in ADAMS under Accession No. ML16070A279.

III. Congressional Review Act

This regulatory guide is a rule as defined in the Congressional Review Act (5 U.S.C. 801-808). However, the Office of Management and Budget has not found it to be a major rule as defined in the Congressional Review Act.

IV. Backfitting and Issue Finality

Revision 3 of RG 1.140 describes a method that the NRC staff considers acceptable to implement regulatory requirements with regard to the design, inspection, and testing of normal atmosphere cleanup systems for controlling releases of airborne radioactive materials to the environment during normal operations, including anticipated operational occurrences. Issuance of this RG does not constitute backfitting as defined in 10 CFR 50.109 (the Backfit Rule) and is not otherwise inconsistent with the issue finality provisions in 10 CFR part 52. As discussed in the “Implementation” section of this RG, the NRC has no current intention to impose this RG on holders of current operating licenses or combined licenses.

This RG may be applied to applications for operating licenses, combined licenses, early site permits, and certified design rules docketed by the NRC as of the date of issuance of the final regulatory guide, as well as future applications submitted after the issuance of the regulatory guide. Such action would not constitute backfitting as defined in the Backfit Rule or be otherwise inconsistent with the applicable issue finality provision in 10 CFR part 52, inasmuch as such applicants or potential applicants are not within the scope of entities protected by the Backfit Rule or the relevant issue finality provisions in part 52.

Dated at Rockville, Maryland, this 11th day of August, 2016.
For the Nuclear Regulatory Commission.
Thomas H. Boyce,
Chief, Regulatory Guidance and Generic Issues Branch, Division of Engineering, Office of Nuclear Regulatory Research.

[FR Doc. 2016-19559 Filed 8-16-16; 8:45 am]

BILLING CODE 7590-01-P